DEPARTMENT OF LABOR

Employment and Training Administration

[TA-W-37,461]

Epic Components Company, New Boston, MI; Notice of Termination of Investigation

Pursuant to section 221 of the Trade Act of 1974, an investigation was initiated on March 13, 2000, in response to a petition filed on the same date on behalf of workers at Epic Components Company, New Boston, Michigan.

The Company official submitting the petition has requested that the petition be withdrawn. Consequently, further investigation in this case would serve no purpose, and the investigation has been terminated.

Signed in Washington, DC, this 17th day of May, 2000.
Grant D. Beale,
Program Manager, Division of Trade Adjustment Assistance.

[FR Doc. 00-13474 Filed 5-30-00; 8:45 am]

BILLING CODE 4510-30-M